DEPARTMENT OF EDUCATION

Office of Special Education and Rehabilitative Services; Overview Information; Personnel Development To Improve Services and Results for Children With Disabilities—Paraprofessional Preservice Program Improvement Grants; Notice Inviting Applications for New Awards for Fiscal Year (FY) 2011

Catalog of Federal Domestic Assistance (CFDA) Number: 84.325N.

Dates:

Applications Available: March 11, 2011.

Deadline for Transmittal of Applications: April 25, 2011.

Deadline for Intergovernmental Review: June 24, 2011.

Full Text of Announcement

I. Funding Opportunity Description

Purpose of Program: The purposes of this program are to (1) help address State-identified needs for highly qualified personnel—in special education, related services, early intervention, and regular education—to work with infants, toddlers, and children with disabilities; and (2) ensure that those personnel have the necessary skills and knowledge, derived from practices that have been determined through scientifically based research and experience, to be successful in serving those children.

Priority: In accordance with 34 CFR 75.105(b)(2)(v), this priority is from allowable activities specified in the statute or otherwise authorized in the statute (see sections 662 and 681 of the Individuals with Disabilities Education Act (IDEA) (20 U.S.C. 1462 and 1481)).

Absolute Priority: For FY 2011 and any subsequent year in which we make awards from the list of unfunded applicants from this competition, this priority is an absolute priority. Under 34 CFR 75.105(c)(3) we consider only applications that meet this priority.

This priority is:

Personnel Development to Improve Services and Results for Children with Disabilities—Paraprofessional Preservice Program Improvement Grants (84.325N).

Background:

Paraprofessionals provide important services to children with disabilities ages birth through 21 and their families. In early intervention (EI) programs, preschools, and elementary, middle, and high schools, paraprofessionals provide instructional support, modify instructional materials, implement behavioral management plans, assist in the implementation of postsecondary education transition plans, and collect data to monitor children's development and learning (Kellegrew, Pacifico-Banta, & Stewart, 2008; Mikulecky & Baber, 2005; Shkodriani, 2003). Kellegrew, Pacifico-Banta, and Stewart (2008) and Shkodriani (2003) note that paraprofessionals have become increasingly responsible for other activities involving children with disabilities, such as participating in the development of their Individualized Family Service Plans and Individualized Education Programs; providing direct services to children and their families, including small group instruction and one-on-one tutoring; and assisting with classroom management. Westat (2002) reported that the average paraprofessional works in five different classes per week and serves 21 students, 15 of whom have disabilities; consequently, it is important that paraprofessionals are prepared to meet professional qualifications that will enable them to provide effective services to all children, including students with disabilities.

Section 635(a)(9) of Part C of IDEA, section 612(a)(14)(B) of Part B of IDEA, and 34 CFR 300.156(b)(1) of the IDEA Part B regulations require States to provide assurances that they have established paraprofessional qualifications that are consistent with State-approved or State-recognized certification, licensing, registration, or other comparable requirements that apply to the professional discipline in which those personnel are providing early intervention, special education, or related services. In a 2004 survey of coordinators for the Part C infants and toddlers program under IDEA, half of the respondents indicated that their State had added or created new professional categories, particularly at the paraprofessional level, such as EI associates and EI assistants (Center to Inform Personnel Preparation Policy and Practice in Early Intervention and Preschool Education, 2004a). Additionally, many States are trying to identify preservice preparation opportunities for paraprofessionals in EI or are working on strategies to increase the quality of preservice programs (Kellegrew et al., 2008).

Despite these efforts and the critical roles that paraprofessionals play in the lives of children with disabilities, overall scant attention has been paid to ensuring that early childhood or K through 12 paraprofessional preservice programs adequately prepare paraprofessionals to serve children with disabilities and their families. Coordinators for the Part B, section 619 preschool program under IDEA have expressed concern about the adequacy of paraprofessionals' preparation, particularly to work with young children with disabilities and their families (Center to Inform Personnel Preparation Policy and Practice in Early Intervention and Preschool Education, 2004b). Although national professional organizations (e.g., the Division for Early Childhood of the Council for Exceptional Children and the National Association for the Education of Young Children) have personnel standards that could be used to guide the preparation of paraprofessionals working with young children with disabilities and their families, many of the certificate or associate degree programs that prepare paraprofessionals have not yet met these standards or do not offer practicum experiences in working with children with disabilities and their families (Chang, Early, & Winton, 2005). Further, according to Giangreco (2010), paraprofessionals in elementary and secondary special education settings are inadequately prepared to work with students with disabilities. Thus, improving paraprofessional preservice programs will help to ensure that paraprofessionals are adequately prepared to meet the requirements under IDEA and in turn, better prepared to meet the needs of children with disabilities.

The Office of Special Education Programs (OSEP) is establishing this priority to support projects that will improve preservice programs for paraprofessionals who serve children ages birth through five and in grades K through 12 by enhancing or redesigning curricula to adequately prepare these paraprofessionals to address the needs of children with disabilities.

Priority:The purpose of this priority is to provide Federal support to improve the quality of existing paraprofessional certificate or associate degree programs. An institution receiving support under this priority must enhance or redesign its program curricula so that paraprofessionals are well-prepared to work with children with disabilities and their families. There are two focus areas under this priority. Under focus area A, the Secretary intends to support improvement grants for EI, early childhood special education (ECSE), and early childhood education (ECE) paraprofessional preservice programs. Under focus area B, the Secretary intends to support improvement grants for K through 12 paraprofessional preservice programs.

Note: Applicants must identify the specific focus area, A or B, under which they are applying as part of the competition title on the application cover sheet (SF form 424, line 4). Applicants may not submit the same proposal under more than one focus area.

Focus Area A: EI, ECSE, and ECE Paraprofessional Preservice Programs.

The programs under focus area A include certificate or associate degree programs at institutions of higher education (IHEs), including but not limited to community colleges, that currently prepare EI, ECSE, or ECE paraprofessionals to serve children ages birth through five. The programs under this focus area must enhance or redesign their curricula by: (1) Incorporating evidence-based and competency-based practices and content in special education into each course; and (2) providing at least one practicum experience in a program that serves children with disabilities ages birth through five and their families. Paraprofessional students must obtain the knowledge and skills necessary to collaborate and work effectively with licensed or certified practitioners to provide appropriate services to children with disabilities ages birth through five and their families. In addition, the programs funded under this focus area must ensure that program graduates meet the qualifications for paraprofessionals that are consistent with the State standards in accordance with section 635(a)(9) of Part C of IDEA and 34 CFR 303.360(b) of the IDEA Part C regulations or section 612(a)(14)(B) of Part B of IDEA and 34 CFR 300.156(b) of the IDEA Part B regulations, as appropriate, or in States that do not have State standards, meet appropriate national professional organization standards for paraprofessionals.

Focus Area B: K through 12 Paraprofessional Preservice Programs.

The programs under focus area B include certificate or associate degree programs at IHEs, including but not limited to community colleges, that currently prepare paraprofessionals to serve students in grades K through 12. The programs under this focus area must enhance or redesign the curricula by: (1) Incorporating evidence-based and competency-based practices and content in special education into each course; and (2) providing at least one practicum experience in a setting that serves children with disabilities in grades K through 12 and their families. Paraprofessional students must obtain the knowledge and skills necessary to collaborate and work effectively with licensed or certified K through 12 practitioners to provide appropriate services to children with disabilities in grades K through 12 and their families. In addition, the programs funded under this focus area must ensure that program graduates meet the qualifications for paraprofessionals that are consistent with the State standards in accordance with section 612(a)(14)(B) of Part B of IDEA and 34 CFR 300.156(b) of the IDEA Part B regulations or in States that do not have State standards, meet the paraprofessional standards in accordance with section 1119 of the Elementary and Secondary Education Act of 1965, as amended.

To be considered for funding under the Paraprofessional Preservice Program Improvement Grants absolute priority, focus area A or B, applicants must meet the application requirements contained in this priority. All projects funded under this absolute priority also must meet the programmatic and administrative requirements specified in the priority.

Note: The two focus areas under this priority only support the improvement of existing EI, ECSE, and ECE or K through 12 paraprofessional preservice programs. This priority does not support the development of new paraprofessional preservice programs, nor does it provide for financial support of paraprofessional students during any year of the project. Projects preparing paraprofessionals in related services are not eligible under these focus areas.

Application Requirements for Focus Areas A and B. An applicant must include in its application—

(a) A plan to implement the activities described in the Project Activities section of this priority. In this plan applicants must describe first-year activities, evidence-based and competency-based practices (including relevant research citations of these practices) that will be included in the enhanced or redesigned program, a four-year timeline, and an implementation plan. In addition, the plan must indicate the projected number of graduates per academic year;

(b) A budget that includes attendance at a three-day Project Directors' Conference in Washington, DC, during each year of the project period; and

(c) An appendix that includes all course syllabi for the existing paraprofessional preservice program.

Project Activities for Focus Areas A and B. To meet the requirements of this priority, the project, at a minimum, must conduct the following activities:

(a) Based on the plan described under paragraph (a) of the Application Requirements, enhance or redesign the paraprofessional preservice program's curricula by incorporating evidence-based and competency-based practices and content in special education into each course and by providing at least one practicum experience in a setting that serves children with disabilities and their families. The project must implement the enhanced or redesigned paraprofessional preservice program in the first year of the project; describe the proposed project activities associated with implementation of the curricula; and attain the approval of the OSEP Project Officer prior to the implementation of the program. The improved paraprofessional preservice program must—

(1) Be aligned to State standards for paraprofessionals, or in States that do not have State standards, meet appropriate national professional organization standards for paraprofessionals, or if appropriate, paraprofessional standards in accordance with section 1119 of the Elementary and Secondary Education Act of 1965, as amended; and

(2) Be designed to ensure that paraprofessional students develop knowledge and skills in the following areas:

(i) Collaborating and working effectively with licensed and certified professional practitioners, as appropriate.

(ii) Implementing social-emotional and behavioral interventions and classroom management practices.

(iii) Implementing instructional strategies to support early development and learning or academic achievement.

(iv) Using technology to enhance children's development and access to natural learning opportunities or improve student achievement and participation in the general education curriculum.

(v) Observing and collecting data for progress monitoring.

(vi) Communicating effectively with children and families.

(vii) Assisting in the implementation of transition plans and services across settings from EI to preschool, preschool to elementary school, elementary school to secondary school, and secondary school to postsecondary education or the workforce, as appropriate.

(viii) Working with children and families from diverse cultural and linguistic backgrounds, including English learners with disabilities and high-need children with disabilities ¹ and their families.

¹ For the purpose of this priority, “high-need children with disabilities” refers to children (ages birth through twenty-one, depending on the State) who are eligible for services under IDEA, and who may be further disadvantaged and at risk of educational failure because they are living in poverty, are English learners, are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, or who are migrant.

(3) Be designed to include field-based preservice preparation opportunities in high-need LEAs,² high-poverty schools,³ or low-performing schools, including the persistently lowest-achieving schools.⁴

² For purposes of this priority, the term “high-need LEA” means an LEA (a) that serves not fewer than 10,000 children from families with incomes below the poverty line; or (b) for which not less than 20 percent of the children served by the LEA are from families with incomes below the poverty line.

³ For the purpose of this priority, the term “high-poverty school” means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data.

⁴ For purposes of this priority, the term “persistently lowest-achieving school” means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years. To identify the persistently lowest-achieving schools, a State must take into account both: (i) The academic achievement of the “all students” group in a school in terms of proficiency on the State's assessments under section 1111(b)(3) of the ESEA in reading/language arts and mathematics combined; and (ii) the school's lack of progress on those assessments over a number of years in the “all students” group.

(b) Develop and implement a plan to ensure that program faculty have the necessary supports, knowledge, and skills to implement the new content and to prepare paraprofessional students to work with children with disabilities and their families.

(c) Develop and implement a management plan for instituting the improved paraprofessional preservice program that was developed in the first year.

(d) Demonstrate how the improved program will work with other projects funded by OSEP and the U.S. Department of Education to incorporate existing paraprofessional preparation resources on evidence-based practices into the enhanced or redesigned curricula (e.g., the IRIS Center for Faculty Enhancements: http://iris.peabody.vanderbilt.edu and CONNECT: The Center to Mobilize Early Childhood Knowledge: http://community.fpg.unc.edu/connect).

(e) Submit the revised curriculum and syllabi for courses that are included in the improved program to the OSEP Project Officer for approval at the end of the first year of the project period.

(f) Develop and implement a clear, effective plan for evaluating project outcomes. This plan must include a description of how the project will—

(1) Measure the extent to which faculty in the program have the knowledge and skills necessary to implement the revised curriculum;

(2) Measure the extent to which graduates of the program have the knowledge and skills necessary to provide evidence-based practices and services that result in improved outcomes for children with disabilities and their families; and

(3) Use the findings of the evaluation to inform ongoing program improvements. Applicants must also clearly describe under the Quality of Project Evaluation selection criterion how the findings will be reported to OSEP in annual and final performance reports.

(g) Develop a plan to maintain the improved program once Federal funding ends.

(h) If the project maintains a Web site, include relevant information about the improved program and documents in a form that meets government or industry-recognized standards for accessibility.

(i) Maintain ongoing communication with the OSEP Project Officer through monthly phone conversations or e-mail communication and participate in monthly grantee community of practice teleconferences, as directed by OSEP.

References:

Center to Inform Personnel Preparation Policy and Practice in Early Intervention and Preschool Education. (2004a). Study I data report: The national landscape of early intervention in personnel preparation standards under Part C of the Individuals with Disabilities Education Act. Farmington, CT: University of Connecticut Health Center. Available at: http://www.uconnucedd.org/per_prep_center/publications.html

Center to Inform Personnel Preparation Policy and Practice in Early Intervention and Preschool Education. (2004b). Study I data report: The national landscape of early childhood special education in personnel preparation standards under 619 of the Individuals with Disabilities Education Act. Farmington, CT: University of Connecticut Health Center. Available at: http://www.uconnucedd.org/per_prep_center/publications.html

Chang, F., Early., D., & Winton, P. (2005). Early childhood teacher preparation in special education at 2- and 4-year institutions of higher education. Journal of Early Intervention, 27(2), 110-124.

Giangreco, M.F. (2010). One-to-one paraprofessionals for students with disabilities in inclusive classrooms: Is conventional wisdom wrong? Intellectual & Developmental Disabilities, 48(1), 1-13. DOI: 10.1352/1934-9556-48.1.1 Full text pdf available. Posted with permission of the American Association on Intellectual and Developmental Disabilities http://www.aaidd.org

Kellegrew, D.H., Pacifico-Banta, J., & Stewart, K. (2008). Training early intervention assistants in California's community colleges. (Issues & Answers Report, REL 2008-No. 060). Washington, DC: US Department of Education, Institute of Educational Sciences, National Center for Education Evaluation and Regional Assistance, Regional Educational Laboratory West. Available at: http://ies.ed.gov/ncee/edlabs/projects/project.asp?ProjectID=165

Mikulecky, M.T. & Baber, A. (2005). ECS policy brief: from highly qualified to highly competent paraprofessionals: How NCLB requirements can catalyze effective program and policy development guidelines from the ECS paraprofessional expert. Retrieved January 22, 2008, from http://www.ecs.org/html/IssueSection.asp?issueid=195&subissueid=112&ssID=0&s=Selected+Research+%26+Readings

Shkodriani, G. (2003). Training for paraprofessionals: The community college role. Retrieved January 22, 2008, from http://hems.aed.org/docs/Paraprofessionals.pdf

Westat. (2002) Study of personnel needs in special education. Retrieved January 23, 2008 from http://ferdig.coe.ufl.edu/spense/KeyFindings.doc

Waiver of Proposed Rulemaking: Under the Administrative Procedure Act (APA) (5 U.S.C. 553), the Department generally offers interested parties the opportunity to comment on proposed priorities and requirements. Section 681(d) of IDEA, however, makes the public comment requirements of the APA inapplicable to the priority in this notice.

Program Authority: 20 U.S.C. 1462 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative Agreement.

Estimated Available Funds: The Administration has requested $90,653,000 for the Personnel Development to Improve Services and Results for Children with Disabilities program for FY 2011, of which we intend to use an estimated $1,500,000 for the competition announced in this notice. The actual level of funding, if any, depends on final congressional action. However, we are inviting applications to allow enough time to complete the grant process if Congress appropriates funds for this program.

Contingent upon the availability of funds and the quality of applications, we may make additional awards in FY 2012 from the list of unfunded applicants from this competition.

Estimated Range of Awards: $145,000-150,000.

Estimated Average Size of Awards: $150,000.

Maximum Award: We will reject any application that proposes a budget exceeding $150,000 for a single budget period of 12 months. The Assistant Secretary for Special Education and Rehabilitative Services may change the maximum amount through a notice published in the Federal Register.

Estimated Number of Awards: 10.

Note: The Department is not bound by any estimates in this notice.

Project Period: Up to 48 months.

III. Eligibility Information

1. Eligible Applicants: IHEs (as defined in section 101 of the Higher Education Act of 1965).

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this competition as follows: CFDA number 84.325N.

To obtain a copy from the program office, contact the person listed under For Further Information Contact in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 50 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: March 11, 2011.

Deadline for Transmittal of Applications: April 25, 2011.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: June 24, 2011.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition may be submitted electronically or in paper format by mail or hand delivery.

a. Electronic Submission of Applications.

We are participating as a partner in the Governmentwide Grants.gov Apply site. The Paraprofessional Preservice Program Improvement Grants competition, CFDA number 84.325N, is included in this project. We request your participation in Grants.gov.

If you choose to submit your application electronically, you must use the Governmentwide Grants.gov Apply site at www.Grants.gov. Through this site, you will be able to download a copy of the application package, complete it offline, and then upload and submit your application. You may not e-mail an electronic copy of a grant application to us.

You may access the electronic grant application for the Paraprofessional Preservice Program Improvement Grants competition at www.Grants.gov. You must search for the downloadable application package for this program by the CFDA number. Do not include the CFDA number's alpha suffix in your search (e.g., search for 84.325, not 84.325N).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not accept your application if it is received—that is, date and time stamped by the Grants.gov system—after 4:30 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must attach any narrative sections of your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.325N) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325N) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities program. These measures include: (1) The percentage of projects that incorporate scientifically based or evidence-based practices; (2) the percentage of scholars who exit paraprofessional preparation programs prior to completion due to poor academic performance; (3) the percentage of degree or certification recipients who are working in the area(s) for which they were trained upon program completion; (4) the percentage of degree or certification recipients who are working in the area(s) for which they were trained upon program completion and are fully qualified under IDEA; (5) the percentage of scholars completing IDEA-funded preservice preparation programs who are knowledgeable and skilled in scientifically based or evidence-based practices for children with disabilities; and (6) the percentage of program graduates who maintain employment for three or more years in the area(s) for which they were trained.

Grantees may be asked to participate in assessing and providing information on these aspects of program quality.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: Shedeh Hajghassemali, U.S. Department of Education, 400 Maryland Avenue, SW., Room 4091, Potomac Center Plaza (PCP), Washington, DC 20202-2550. Telephone: (202) 245-7506.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 4, 2011.
Alexa Posny,
Assistant Secretary for Special Education and Rehabilitative Services.

[FR Doc. 2011-5704 Filed 3-10-11; 8:45 am]

BILLING CODE 4000-01-P